SURFACE TRANSPORTATION BOARD

[Docket No. FD 36477]

Paul Didelius—Continuance in Control Exemption—RYAL, LLC

Paul Didelius (Didelius), an individual and noncarrier,¹ has filed a verified notice of exemption pursuant to 49 CFR 1180.2(d)(2) to continue in control of RYAL, LLC (RYAL), upon RYAL's becoming a Class III carrier.

¹ According to the verified notice, Didelius controls YCR Corporation (YCR), a Class III carrier that operates a rail line in Washington; CCET, LLC (CCET), a Class III carrier that operates a rail line in Ohio; WRL, LLC (WRL), a Class III carrier that operates a rail line in Washington; and CWW, LLC (CWW), a Class III carrier that operates a rail line in Washington.

This transaction is related to a concurrently filed notice of modified certificate of public convenience and necessity in RYAL, LLC—Modified Certificate of Public Convenience & Necessity, Docket No. FD 36476, for RYAL to lease and operate over an approximately 26-mile rail line owned by the Port of Royal Slope (the Port), which (1) originates at milepost 1989.06, near Othello, Adams County, Wash., and continues west for 20.44 miles to milepost 2009, at Royal City Junction, Grant County, Wash.; and (2) proceeds north a distance of 5.2 miles, terminating at an industrial siding at milepost 5.2 near Royal City, Grant County, Wash. (the Line).²

² The Line was previously leased to WRL for a term of five years, pursuant to a modified rail certificate. See WRL, LLC—Modified Rail Certificate of Pub. Convenience & Necessity—Adams & Grant Cntys., Wash., FD 36002 (STB served June 3, 2016).

The transaction may be consummated on or after February 11, 2021, the effective date of the exemption (30 days after the verified notice of exemption was filed).

Didelius certifies that: (1) The rail properties to be operated and controlled, YCR, CCET, WRL, CWW, and RYAL, do not physically connect; (2) there are no plans to acquire additional rail lines for the purpose of making a connection; and (3) each of the carriers involved in the continuance in control transaction is a Class III carrier. Therefore, the transaction is exempt from the prior approval requirements of 49 U.S.C. 11323. See 49 CFR 1180.2(d)(2).

Under 49 U.S.C. 10502(g), the Board may not use its exemption authority to relieve a rail carrier of its statutory obligation to protect the interests of its employees. Section 11326(c), however, does not provide for labor protection for transactions under section 11324 and 11325 that involve only Class III carriers. Accordingly, the Board may not impose labor protective conditions here, because all of the carriers involved are Class III carriers.

If the verified notice contains false or misleading information, the exemption is void ab initio. Petitions to revoke the exemption under 49 U.S.C. 10502(d) may be filed at any time. The filing of a petition to revoke will not automatically stay the effectiveness of the exemption. Petitions for stay must be filed no later than February 4, 2021 (at least seven days before the exemption becomes effective).

All pleadings, referring to Docket No. FD 36477, should be filed with the Surface Transportation Board via e-filing on the Board's website. In addition, a copy of each pleading must be served on Didelius's representative, James H.M. Savage, 22 Rockingham Court, Germantown, MD 20874.

Board decisions and notices are available at www.stb.gov.

Decided: January 25, 2021.
By the Board, Allison C. Davis, Director, Office of Proceedings.
Kenyatta Clay,
Clearance Clerk.

[FR Doc. 2021-01891 Filed 1-27-21; 8:45 am]

BILLING CODE 4915-01-P